DEPARTMENT OF THE INTERIOR

Fish and Wildlife Service

[FWS-R9-MB-2011-N215; 91400-5110-0000-7B; 91400-9410-0000-7B]

Multistate Conservation Grant Program; Priority List and Approval for Conservation Projects

AGENCY: Fish and Wildlife Service, Department of the Interior.

ACTION: Notice of receipt of priority list and approval of the projects.

SUMMARY: We, the U.S. Fish and Wildlife Service (FWS), announce the fiscal year 2012, priority list of wildlife and sport fish conservation projects from the Association of Fish and Wildlife Agencies (AFWA). As required by the Wildlife and Sport Fish Restoration Programs Improvement Act of 2000, AFWA submits a list of projects to us each year to consider for funding under the Multistate Conservation Grant program. We have reviewed the list and have awarded the grants from the list.

ADDRESSES: John C. Stremple, Multistate Conservation Grants Program Coordinator, Wildlife and Sport Fish Restoration Program, U.S. Fish and Wildlife Service, 4401 North Fairfax Drive, Mail Stop MBSP-4020, Arlington, VA 22203.

FOR FURTHER INFORMATION CONTACT: John C. Stremple, at the above address, or at (703) 358-2156 (phone) or John_Stremple@fws.gov (email).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the Restoration Acts, for a total of up to $6 million annually. Projects can be funded from both funds depending on the project activities. We may award grants to projects from a list of priority projects recommended to us by the Association of Fish and Wildlife Agencies. The FWS Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation in at least 26 States, or in a majority of the States in any one FWS Region, or it must benefit a regional association of State fish and wildlife agencies. We may award grants to a State, a group of States, or one or more nongovernmental organizations. For the purpose of carrying out the National Survey of Fishing, Hunting, and Wildlife-Associated Recreation, we may award grants to the FWS, if requested by AFWA, or to a State or a group of States. Also, AFWA requires all project proposals to address its National Conservation Needs, which are announced annually by AFWA at the same time as its request for proposals. Further, applicants must provide certification that no activities conducted under a Multistate Conservation grant will promote or encourage opposition to regulated hunting or trapping of wildlife or to regulated angling or taking of fish.

Eligible project proposals are reviewed and ranked by AFWA Committees and interested nongovernmental organizations that represent conservation organizations, sportsmen's and women's organizations, and industries that support or promote fishing, hunting, trapping, recreational shooting, bowhunting, or archery. AFWA's Committee on National Grants recommends a final list of priority projects to the directors of State fish and wildlife agencies for their approval by majority vote. By statute, AFWA then must transmit the final approved list to the FWS for funding under the Multistate Conservation Grant program by October 1 of the fiscal year.

This year, we received a list of 12 recommended projects from AFWA. We recommend all of them for funding in fiscal year 2012. The list follows:

Multistate Conservation Grant Program—FY 2012 Cycle Recommended Projects
ID | Title | Submitter | PR funding ¹ | DJ funding ² | Total 2012 grant request
12-034 | Multistate Conservation Grant Program Coordination | AFWA | $145,260.00 | $145,260.00 | $290,520.00
12-001 | Coordination of Farm Bill Program Implementation to Optimize Fish and Wildlife Benefits to the States | AFWA | 156,600.00 | 52,200.00 | 208,800.00
12-008 | Coordination of the Industry, Federal and State Agency Coalition | AFWA | 152,775.00 | 50,925.00 | 203,700.00
12-028 | State Fish and Wildlife Agency Coordination and Administration | AFWA | 299,359.80 | 299,359.80 | 598,719.60
12-029 | State Fish and Wildlife Agency Director Travel Coordination and Administration | AFWA | 64,075.00 | 64,075.00 | 128,150.00
12-010 | 2011 Economic Impacts of Sportfishing | American Sportfishing Association | 0.0 | 82,503.00 | 82,503.00
12-022 | The Wildlife and Sport Fish Restoration Program 75th Anniversary | Wildlife Management Institute | 50,000.00 | 50,000.00 | 100,000.00
12-011 | Investigating Factors Related to Hunting and Fishing License Sales Increases | American Sportfishing Association | 92,886.15 | 92,886.15 | 185,772.30
12-017 | Longitudinal Evaluation of Hunting, Fishing, and Shooting Recruitment/Retention Programs | National Wild Turkey Federation | 173,172.38 | 173,172.38 | 346,344.76
12-033 | Organizational Development Training for Fish Habitat Partnerships to Increase Capacity | National Fish Habitat Action Plan Board | 0 | 100,000.00 | 100,000.00
12-021 | Trailblazer Adventure Program | U.S. Sportsman Alliance Foundation | 40,000.00 | 40,000.00 | 80,000.00
12-030 | Conserving Fish Habitat from Whitewater to Bluewater | Atlantic States Marine Fisheries Commission | 0 | 261,440.38 | 261,440.38
|  |  | 1,174,128.33 | 1,411,821.71 | 2,585,950.04
¹ PR Funding: Pitman-Robertson Wildlife Restoration funds.
² DJ Funding: Dingell-Johnson Sport Fish Restoration funds.

Dated: December 28, 2011.
Rowan W. Gould,
Acting Director, U.S. Fish and Wildlife Service.

[FR Doc. 2012-7998 Filed 4-3-12; 8:45 am]

BILLING CODE 4310-55-P